DEPARTMENT OF HOMELAND SECURITY

Federal Emergency Management Agency

[Docket ID FEMA-2013-0002; Internal Agency Docket No. FEMA-B-1325]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 16, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1325, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Upper Alabama Watershed
Autauaga County, Alabama, and Incorporated Areas
Maps Available for Inspection Online at: http://www.adeca.alabama.gov/Divisions/owr/floodplain/Pages/County-Status.aspx
City of Millbrook | City Hall, 3390 Main Street, Millbrook, AL 36054.
City of Prattville | Planning Department, 102 West Main Street, Prattville, AL 36067.
Town of Autaugaville | Autauga County Emergency Management Agency, 826 Gillespie Street, Prattville, AL 36067.
Town of Billingsley | Autauga County Emergency Management Agency, 826 Gillespie Street, Prattville, AL 36067.
Unincorporated Areas of Autauga County | Autauga County Emergency Management Agency, 826 Gillespie Street, Prattville, AL 36067.
Dallas County, Alabama, and Incorporated Areas
Maps Available for Inspection Online at: http://www.adeca.alabama.gov/Divisions/owr/floodplain/Pages/County-Status.aspx
City of Selma | City Hall, 222 Broad Street, Selma, AL 36701.
City of Valley Grande | City Hall, 348 County Road 240, Valley Grande, AL 36703.
Unincorporated Areas of Dallas County | Dallas County Courthouse, 105 Lauderdale Street, Selma, AL 36701.
Elmore County, Alabama, and Incorporated Areas
Maps Available for Inspection Online at: http://www.adeca.alabama.gov/Divisions/owr/floodplain/Pages/County-Status.aspx
City of Millbrook | City Hall, 3390 Main Street, Millbrook, AL 36054.
City of Prattville | Planning Department, 102 West Main Street, Prattville, AL 36067.
City of Wetumpka | City Hall, 212 South Main Street, Wetumpka, AL 36092.
Town of Coosada | Town Hall, 5800 Coosada Road, Coosada, AL 36020.
Town of Deatsville | City Hall, 212 South Main Street, Wetumpka, AL 36092.
Town of Elmore | Town Hall, 485 Jackson Street, Elmore, AL 36025.
Unincorporated Areas of Elmore County | Elmore County Highway Department, 155 County Shop Road, Wetumpka, AL 36092.
Lowndes County, Alabama, and Incorporated Areas
Maps Available for Inspection Online at: http://www.adeca.alabama.gov/Divisions/owr/floodplain/Pages/County-Status.aspx
Town of Benton | Town Hall, 379 Washington Street, Benton, AL 36785.
Town of White Hall | Town Hall, 989 Freedom Road, Lowndesboro, AL 36752.
Unincorporated Areas of Lowndes County | Lowndes County Courthouse, 1 South Washington Street, Hayneville, AL 36040.
Houston County, Alabama, and Incorporated Areas
Maps Available for Inspection Online at: http://www.adeca.alabama.gov/Divisions/owr/floodplain/Pages/County-Status.aspx
City of Ashford | City Hall, 525 North Broadway Street, Ashford, AL 36312.
City of Dothan | City Hall, 126 North Saint Andrews Street, Dothan, AL 36303.
Town of Avon | Avon Town Hall, 732 Broadway Avenue, Ashford, AL 36312.
Town of Columbia | Town Hall, 203 South Washington Street, Columbia, AL 36319.
Town of Cottonwood | Town Hall, 1414 Metcalf Street, Cottonwood, AL 36320.
Town of Cowarts | Town Hall, 800 Jester Street, Cowarts, AL 36321.
Town of Gordon | Town Hall, 692 Tifton Road, Gordon, AL 36343.
Town of Kinsey | Town Hall, 6947 Walden Drive, Kinsey, AL 36303.
Town of Madrid | Town Hall, 764 Decatur Road, Madrid, AL 36320.
Town of Rehobeth | Town Hall, 5449 County Road 203, Rehobeth, AL 36301.
Town of Taylor | Town Hall, 1469 South County Road 59, Taylor, AL 36301.
Unincorporated Areas of Houston County | Houston County Engineer's Office, 2400 Columbia Highway, Dothan, AL 36303.
Dixie County, Florida, and Incorporated Areas
Maps Available for Inspection Online at: http://www.fema.gov/preliminaryfloodhazarddata
Town of Cross City | Town Hall, 99 North East 210th Avenue, Cross City, FL 32628.
Unincorporated Areas of Dixie County | Dixie County Building and Zoning Department, 405 South East 22nd Avenue, Cross City, FL 32628.

(Catalog of Federal Domestic Assistance No. 97.022, “Flood Insurance.”)

Dated: June 3, 2013.
Roy E. Wright,
Deputy Associate Administrator for Mitigation, Department of Homeland Security, Federal Emergency Management Agency.

[FR Doc. 2013-14264 Filed 6-14-13; 8:45 am]

BILLING CODE 9110-12-P